DEPARTMENT OF HEALTH AND HUMAN SERVICES

Centers for Disease Control and Prevention

[Docket Number CDC-2017-0001, NIOSH-293]

Personal Protective Equipment Information (PPE-Info) Database

AGENCY: National Institute for Occupational Safety and Health (NIOSH) of the Centers for Disease Control and Prevention (CDC), Department of Health and Human Services (HHS).

ACTION: Request for information and comment.

SUMMARY: The National Institute for Occupational Safety and Health (NIOSH) of the Centers for Disease Control and Prevention announces the availability of a draft web-based database entitled PPE-Info for public comment. To view the notice and related materials, visit www.regulations.gov and enter CDC-2017-0001 in the search field and click “Search.”

Table of Contents

• Dates:

• Addresses:

• For Further Information Contact:

• Supplementary Information:

• Background:

• Information Needs:

• Reference

DATES: Electronic or written comments must be received by April 13, 2017.

ADDRESSES: You may submit comments, identified by CDC-2017-0001 and docket number NIOSH-293, by any of the following methods:

• Federal eRulemaking Portal: http://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2017-0001; NIOSH-293]. All relevant comments received will be posted without change to www.regulations.gov, including any personal information provided. For access to the docket to read background documents or comments received, go to www.regulations.gov. All information received in response to this notice will also be available for public examination and copying at the NIOSH Docket Office, 1150 Tusculum Avenue, Room 155, Cincinnati, OH 45226-1998.

FOR FURTHER INFORMATION CONTACT: Susan Moore, NIOSH, National Personal Protective Technology Laboratory, Office of the Director, 626 Cochrans Mill Road, Building 20, Pittsburgh, PA, 15236, (412) 386-6613, (not a toll free number).

SUPPLEMENTARY INFORMATION: PPE-Info is a collection of national personal protective equipment (PPE) information. The database provides standards developers, manufacturers, suppliers, purchasers, and end users of PPE with the ability to conduct general- or advanced-criteria searches of (1) relevant standards, (2) associated product types, (3) target occupational groups, (4) basic conformity assessment specifications, and (5) an abundance of additional pertinent information. PPE-Info is the only private or public U.S. database that compiles, tracks, and updates comprehensive information about national PPE standards and select product information.

Using this collection of information, PPE-Info currently offers the following capabilities:

• Identification of PPE standards, searchable by PPE type, hazard category, Standards Development Organization, Standard Occupational Classification (SOC) code, standard type, and standard status, with basic- and advanced-search functions;

• A PPE-Selection Logic Tool for potential Ebola exposure;

• Identification of 3rd party testing laboratories whose scope of accreditation includes testing to the identified standard.

1. Background: In 2011 NIOSH began an effort to address the recommendations issued by the Institute of Medicine (IOM) in its report “Certifying Personal Protective Technologies: Improving Worker Safety,” which recommended that “NIOSH NPPTL should continue and expand its role in PPT [personal protective technology] conformity assessment. Specifically, NPPTL should expand its role and become the primary clearinghouse for reliable information on non-respirator PPT.” The PPE-Info Database is an initial key element designed to address this IOM recommendation. The PPE-Info Web site was developed in 2012 and is available for use and review (https://wwwn.cdc.gov/PPEinfo). In addition, users can access a tutorial on the features and use of the current PPE-Info database (https://niosh-connect.adobeconnect.com/p7o6sz3xxt5/).

Information Needs: Public comments and recommendations are needed to assist NIOSH in finalizing the PPE-Info database. Information is needed to answer the following questions:

1. What improvements to the current PPE-Info capabilities are still needed? For example,

a. Should PPE-Info include a list of PPE that conforms to a given standard along with the corresponding level of conformity (e.g., supplier declaration of conformity, accredited third-party declaration of conformity)? If so, what types of PPE would be the most important to include? Provide your rationale, any supporting data or information, including references or sources of technical expert opinion.

b. Should additional selection logic assistance be added, similar to what PPE-Info already does for the hazard of Ebola? If so, which hazards would be most relevant to include and, of those, which have been sufficiently researched to support this logic selection assistance? Provide any supporting data or information regarding the research, including references.

2. In addition to the existing content included in PPE-Info, what new content or capabilities could be included to further improve health and safety outcomes for U.S. workers? Please provide an explanation for why these improvements are needed, including the affected parties/target audience and the potential impact to the PPE community if these improvements were made. For example, should PPE-Info include international PPE standards? If so, what standards would be the highest priority? Provide your rationale, any supporting data or information, including references or sources of technical expert opinion.

3. What improvements (if any) to PPE-Info are needed to achieve the IOM's vision of the “primary clearinghouse for reliable information on non-respirator PPT?” Please provide an explanation for why these improvements are needed, including the affected parties/target audience and the potential impact to the PPE community if these improvements were made. Provide your rationale, any supporting data or information, including references or sources of technical expert opinion.

4. Identify any other issues that you feel NIOSH should address in regards to this database. Please provide an explanation for why these improvements are needed, including the affected parties/target audience and the potential impact to the PPE community if these improvements were made. Provide your rationale, any supporting data or information, including references or sources of technical expert opinion, or describe your experiences as a database user.

Reference

Cohen HJ, Liverman CT [2010]. “Certifying Personal Protective Technologies: Improving Worker Safety.” https://www.nap.edu/catalog/12962/certifying-personal-protective-technologies-improving-worker-safety)

John Howard,
Director, National Institute for Occupational Safety and Health, Centers for Disease Control and Prevention.

[FR Doc. 2017-03737 Filed 2-24-17; 8:45 am]

BILLING CODE 4163-19-P